NUCLEAR REGULATORY COMMISSION

[NRC-2018-0028]

Development of an Ex Situ Performance Testing Protocol for Nuclear Power Plant Flood Penetration Seals

AGENCY: Nuclear Regulatory Commission.

ACTION: Draft NUREG; request for comment.

SUMMARY: The U.S. Nuclear Regulatory Commission (NRC) is issuing for public comment a draft NUREG, NUREG-2240, “Development of an Ex Situ Performance Testing Protocol for Nuclear Power Plant Flood Penetration Seals.” This draft NUREG summarizes a research project that developed a test protocol for evaluating flood penetration seals using simulated flooding conditions in a laboratory setting.

DATES: Submit comments by September 2, 2020. Comments received after this date will be considered if it is practical to do so, but the Commission is able to ensure consideration only for comments received on or before this date.

ADDRESSES: You may submit comments by any of the following methods:

• Federal Rulemaking website: Go to https://www.regulations.gov and search for Docket ID NRC-2018-0028. Address questions about NRC docket IDs in Regulations.gov to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Thomas Aird, Office of Nuclear Regulatory Research, U.S. Nuclear Regulatory Commission, Washington, DC 20555-0001; telephone: 301-415-2442; email: Thomas.Aird@nrc.gov.

SUPPLEMENTARY INFORMATION:

I. Obtaining Information and Submitting Comments

A. Obtaining Information

Please refer to Docket ID NRC-2018-0028 when contacting the NRC about the availability of information for this action. You may obtain publicly-available information related to this action by any of the following methods:

• Federal Rulemaking website: Go to https://www.regulations.gov and search for Docket ID NRC-2018-0028.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov. The draft NUREG-2240 is available in ADAMS under Accession ML20206L359.

B. Submitting Comments

Please include Docket ID NRC-2018-0028 in the subject line of your comment submission.

The NRC cautions you not to include identifying or contact information that you do not want to be publicly disclosed in your comment submission. The NRC posts all comment submissions at https://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

Draft NUREG-2240 summarizes the results of a research project on flood penetration seals installed at nuclear power plants (NPPs). The objectives of this research project were to characterize flood penetration seals currently installed at NPPs and to develop a test protocol that evaluated the effectiveness and performance of flood penetration seals in their installed configurations. The test protocol described in draft NUREG-2240 is intended to support the evaluation of the flood mitigation performance of penetration seals that are installed to protect openings in barriers (walls/floors) that have been otherwise credited as having a flood resistance rating in support of a flood mitigation program at NPPs.

The overall research project consisted of three phases: (1) Profiling of flood penetration seals currently used in U.S. NPPs; (2) developing a draft ex-situ performance testing protocol; and (3) performing limited testing of several seal types and applications to evaluate and refine the testing protocol. Project materials including a draft test protocol from phases 1 and 2 were published in the Federal Register for public comment on February 20, 2018 (83 FR 7239). After a 30-day public comment period, the public comments were assessed, and the draft test protocol was updated as necessary.

As part of the third and final phase of this research project, a limited series of flood tests were conducted to assess the effectiveness and viability of the developed testing protocol. As the flood experiments took place, the draft protocol was assessed using the test data. Informal observations of individual flood seal performance were recorded and described in the draft NUREG, but such observations should not be considered exhaustive or as ascribing specific properties/qualifications to the flood seals themselves. The overall results of these tests and subsequent amendments to the test protocol are outlined in draft NUREG-2240.

This document is not intended for interim use. The NRC will review public comments received on the document and incorporate suggested changes as appropriate.

Dated: July 28, 2020.
For the Nuclear Regulatory Commission.
Mark H. Salley,
Chief, Fire and External Hazard Analysis Branch, Division of Risk Analysis, Office of Nuclear Regulatory Research.

[FR Doc. 2020-16717 Filed 7-31-20; 8:45 am]

BILLING CODE 7590-01-P